DEPARTMENT OF HEALTH AND HUMAN SERVICES

National Institutes of Health

Office of the Director, National Institutes of Health; Notice of Meeting

Pursuant to section 1009 of the Federal Advisory Committee Act, as amended, notice is hereby given of a meeting of the Advisory Committee to the Deputy Director for Intramural Research, National Institutes of Health.

The meeting will be held as a virtual meeting and will be open to the public as indicated below. Individuals who plan to view the virtual meeting and need special assistance or other reasonable accommodations to view the meeting, should notify the Contact Person listed below in advance of the meeting.

Name of Committee: Advisory Committee to the Deputy Director for Intramural Research, National Institutes of Health.

Date: October 1, 2024.

Time: 1:00 p.m.-4:00 p.m. EST.

Agenda: Discuss research initiatives and collaborations within the Intramural Research Program (IRP). Topics will include existing IRP-wide efforts and shared resources subcommittee process; strengths of the current IRP; and potential future IRP-wide initiatives.

Place: National Institutes of Health, Building 1, 1 Center Drive, Room 160, Bethesda, MD 20892 (Virtual Meeting).

Meeting Access Information:

https://nih.zoomgov.com/j/1612741598?pwd=Ll1HeBUL3En7ytdwOtUXKbfDhQLEwf.1

Meeting ID: 161 274 1598

Passcode: 942784

One tap mobile

+16692545252,,1612741598#,,,,*942784# US (San Jose)

+16468287666,,1612741598#,,,,*942784# US (New York)

Dial by your location

+1 669 254 5252 US (San Jose)

+1 646 828 7666 US (New York)

+1 646 964 1167 US (US Spanish Line)

+1 551 285 1373 US (New Jersey)

+1 669 216 1590 US (San Jose)

+1 415 449 4000 US (US Spanish Line)

Contact Person: Roland A Owens, Ph.D., Acting Principal Deputy Director, Office of Intramural Research, Office of the Director, National Institutes of Health, 1 Center Drive, Room 160, Bethesda, MD 20892, (301) 594-7471, owensrol@mail.nih.gov.

Any interested person may file written comments with the committee by forwarding the statement to the Contact Person listed on this notice. The statement should include the name, address, telephone number and when applicable, the business or professional affiliation of the interested person.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: August 20, 2024.
Bruce A. George,
Program Analyst, Office of Federal Advisory Committee Policy.

[FR Doc. 2024-19006 Filed 8-22-24; 8:45 am]

BILLING CODE 4140-01-P